DEPARTMENT OF COMMERCE

Foreign-Trade Zones Board

[Docket 51-2008]

Foreign-Trade Zone 82, Application for Subzone Authority, ThyssenKrupp Steel and Stainless USA, LLC, Notice of Public Hearing and Reopening of Comment Period

A public hearing will be held on the application for subzone authority at the ThyssenKrupp Steel and Stainless USA, LLC (ThyssenKrupp) facility in Calvert, Alabama (73 FR 58535-58536, 10/7/08). The Commerce examiner will hold the public hearing on September 10, 2009 at 1:00 p.m., at the Department of Commerce, Room 4830, 1401 Constitution Ave., NW, Washington, DC 20230. Interested parties should indicate their intent to participate in the hearing and provide a summary of their remarks no later than September 4, 2009.

The comment period for the case referenced above is being reopened through September 25, 2009, to allow interested parties additional time in which to comment. Rebuttal comments may be submitted during the subsequent 15-day period, until October 13, 2009. Submissions (original and one electronic copy) shall be addressed to the Board's Executive Secretary at: Foreign-Trade Zones Board, U.S. Department of Commerce, Room 2111, 1401 Constitution Ave. NW, Washington, DC 20230.

For further information, contact Elizabeth Whiteman at Elizabeth_Whiteman@ita.doc.gov or (202) 482-0473.

Dated: July 24, 2009.
Andrew McGilvray,
Executive Secretary.

[FR Doc. E9-18475 Filed 7-31-09; 8:45 am]

BILLING CODE 3510-DS-S